DEPARTMENT OF COMMERCE

International Trade Administration

[C-533-894]

Forged Steel Fluid End Blocks From India: Preliminary Results of Countervailing Duty Administrative Review and Rescission of Administrative Review, in Part; 2022

AGENCY: Enforcement and Compliance, International Trade Administration, Department of Commerce.

SUMMARY: The U.S. Department of Commerce (Commerce) preliminarily determines that countervailable subsidies were provided to Bharat Forge Limited, the sole producer and exporter of forged steel fluid end blocks (fluid end blocks) from India subject to this administrative review, during the period of review (POR) January 1, 2022, through December 31, 2022. We invite interested parties to comment on these preliminary results.

DATES: Applicable February 2, 2024.

FOR FURTHER INFORMATION CONTACT: Suresh Maniam, AD/CVD Operations, Office I, Enforcement and Compliance, International Trade Administration, U.S. Department of Commerce, 1401 Constitution Avenue NW, Washington, DC 20230; telephone: (202) 482-1603.

SUPPLEMENTARY INFORMATION:

Background

On January 29, 2021, Commerce published in the Federal Register the countervailing duty order on fluid end blocks from India.¹ On January 3, 2023, we published in the Federal Register a notice of opportunity to request an administrative review of the Order.² On March 14, 2023, based on timely requests for an administrative review, Commerce published in the Federal Register the notice of initiation of an administrative review of the Order.³ On May 5, 2023, Commerce selected Bharat Forge, Limited as the sole mandatory respondent in this review.⁴ On September 19, 2023, Commerce extended the deadline for the preliminary results of this review until January 31, 2024.⁵

¹ See Forged Steel Fluid End Blocks from India: Countervailing Duty Order, 86 FR 7535 (January 29, 2021) (Order).

² See Antidumping or Countervailing Duty Order, Finding, or Suspended Investigation; Opportunity to Request Administrative Review and Join Annual Inquiry Service List, 88 FR 45 (January 3, 2023).

³ See Initiation of Antidumping and Countervailing Duty Administrative Reviews, 88 FR 15642 (March 14, 2023).

⁴ See Memorandum, “Respondent Selection Memorandum,” dated May 5, 2023.

⁵ See Memorandum, “Extension of Deadline for Preliminary Results,” dated September 19, 2023.

For a complete description of the events that followed the initiation of this investigation, see the Preliminary Decision Memorandum.⁶ A list of topics discussed in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results of the Countervailing Duty Administrative Review and Rescission of Review in Part: Forged Steel Fluid End Blocks from India; 2022,” dated concurrently with, and hereby adopted by, this notice (Preliminary Decision Memorandum).

Scope of the Order

The product covered by the Order is fluid end blocks from India. For a complete description of the scope of the Order, see the Preliminary Decision Memorandum.

Methodology

Commerce is conducting this countervailing duty administrative review in accordance with section 751(a)(1) of the Tariff Act of 1930, as amended (the Act). For each subsidy program found countervailable, Commerce preliminarily determines that there is a subsidy, i.e., a financial contribution by an “authority” that gives rise to a benefit to the recipient, and that the subsidy is specific.⁷ For a full description of the methodology underlying our conclusions, including our reliance, in part, on facts otherwise available pursuant to sections 776(a) and (b) of the Act, see the Preliminary Decision Memorandum.

⁷ See sections 771(5)(B) and (D) of the Act regarding financial contribution; section 771(5)(E) of the Act regarding benefit; and section 771(5A) of the Act regarding specificity.

Rescission of Administrative Review, in Part

Based on our analysis of U.S. Customs and Border Protection (CBP) data, we determine that the following companies had no entries of subject merchandise during the POR: (1) Bharat Forge Limited, India; (2) Echjay Industries Pvt. Ltd.; (3) Jaypee Forge Pvt. Ltd.; (4) MM Forgings Ltd. (a.k.a., M M Forgings Ltd.); (5) Mars Forge Pvt. Ltd.; (6) Pradeep Metals Ltd.; (7) Ramkrishna Forgings Ltd.; (8) Rolex Rings Ltd.; (9) Sunrise Exports International; (10) Western Heat and Forge Pvt. Ltd.; and (11) Western India Forgings Pvt. Ltd. On June 29, 2023, we notified parties of our intent to rescind the administrative review with respect to these 11 companies because there are no reviewable suspended entries.⁸ No parties commented on the notification of intent to rescind the review, in part. Pursuant to 19 CFR 351.213(d)(3), we are rescinding the administrative review of these 11 companies. For additional information regarding this determination, see the Preliminary Decision Memorandum.

⁸ See Memorandum, “Intent to Rescind Review, in Part,” dated June 29, 2023 (Intent to Rescind Memo).

Preliminary Results of Review

We preliminary find that the net countervailable subsidy rate exists for the period January 1, 2022, through December 31, 2022:

Company | Subsidy rate (percent ad valorem)
Bharat Forge Limited ⁹ | 3.76

Disclosure and Public Comment

⁹ Commerce preliminarily finds the following companies to be cross-owned with Bharat Forge, Limited: Bharat Forge Utilities Limited and Saarloha Advanced Materials Private Limited.

We intend to disclose the calculations performed for these preliminary results to interested parties within five days after the date of publication of this notice.¹⁰ Pursuant to 19 CFR 351.309(c), interested parties may submit case briefs to Commerce no later than 30 days after the date of publication of these preliminary results of review.¹³ Rebuttal briefs, limited to issues raised in the case briefs, may be filed not later than five days after the date for filing case briefs.¹¹ Interested parties who submit case briefs or rebuttal briefs in this proceeding must submit: (1) a table of contents listing each issue; and (2) a table of authorities.¹²

¹⁰ See 19 CFR 351.224(b).

¹¹ See 19 CFR 351.309(d); see also Administrative Protective Order, Service, and Other Procedures in Antidumping and Countervailing Duty Proceedings, 88 FR 67069, 67077 (September 29, 2023) (APO and Final Service Rule).

¹² See 19 351.309(c)(2) and (d)(2).

¹³ We use the term “issue” here to describe an argument that Commerce would normally address in a comment of the Issues and Decision Memorandum.

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹³ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁴

¹⁴ See APO and Final Service Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. eastern time within 30 days after the date of publication of this notice.

Unless extended, we intend to issue the final results of this administrative review, which will include the results of our analysis of the issues raised in the case briefs, within 120 days of publication of these preliminary results in the Federal Register, pursuant to section 751(a)(3)(A) of the Act and 19 CFR 351.213(h)(1).

Assessment Rates

In accordance with section 751(a)(2)(C) of the Act and 19 CFR 351.221(b)(4)(i), we preliminarily determined subsidy rates in the amounts shown above for the producer/exporters shown above. Upon issuance of the final results of the administrative review, consistent with section 751(a)(1) of the Act and 19 CFR 351.212(b)(2), Commerce shall determine, and CBP shall assess, countervailing duties on all appropriate entries covered by this review.

For the companies for which this review is rescinded with these preliminary results, we will instruct CBP to assess countervailing duties on all appropriate entries at a rate equal to the cash deposit of estimated countervailing duties required at the time of entry, or withdrawal from warehouse, for consumption, during the period January 1, 2022, through December 31, 2022, in accordance with 19 CFR 351.212(c)(l)(i). For the companies remaining in the review, we intend to issue assessment instructions to CBP no earlier than 35 days after the date of publication of the final results of this review in the Federal Register.

If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce also intends upon publication of the final results, to instruct CBP to collect cash deposits of the estimated countervailing duties in the amounts calculated in the final results of this review for the respective companies listed above with regard to shipments of subject merchandise entered, or withdrawn from warehouse, for consumption on or after the date of publication of the final results of this review. If the rate calculated in the final results is zero or de minimis, no cash deposit will be required on shipments of the subject merchandise entered or withdrawn from warehouse, for consumption on or after the date of publication of the final results of this review.

For all non-reviewed firms, CBP will continue to collect cash deposits of estimated countervailing duties at the all-others rate or the most recent company-specific rate applicable to the company, as appropriate. These cash deposit requirements, when imposed, shall remain in effect until further notice.

Notification to Interested Parties

These preliminary results of review are issued and published in accordance with sections 751(a)(1) and 777(i)(1) of the Act and 19 CFR 351.213 and 351.221(b)(4).

Dated: January 26, 2024.
Abdelali Elouaradia,
Deputy Assistant Secretary for Enforcement and Compliance.

Appendix

List of Topics Discussed in the Preliminary Decision Memorandum

I. Summary

II. Background

III. Scope of the Order

IV. Rescission of Administrative Review, in Part

V. Use of Facts Otherwise Available and Application of Adverse Inferences

VI. Subsidies Valuation Information

VII. Analysis of Programs

VIII. Recommendation

[FR Doc. 2024-02139 Filed 2-1-24; 8:45 am]

BILLING CODE 3510-DS-P